OCCUPATIONAL SAFETY AND HEALTH REVIEW COMMISSION

Proposed Information Collection; Comment Request

AGENCY: Occupational Safety and Health Review Commission.

ACTION: Notice.

SUMMARY: The Occupational Safety and Health Review Commission (OSHRC) invites the public and other Federal agencies to comment on a proposed information collection concerning the OSHRC Settlement Part program. OSHRC will submit the proposed information collection request to the Office of Management and Budget (OMB) for review, as required by the Paperwork Reduction Act of 1995 (44 U.S.C. 3501 et seq.).

DATES: Written comments must be submitted on or before January 3, 2012.

ADDRESSES: Submit all written comments, identified by the title “Paperwork Reduction Act Information Collection,” by mail or hand delivery to John X. Cerveny, Deputy Executive Secretary, Occupational Safety and Health Review Commission, 1120 20th Street, NW., Washington, DC 20036-3457, by fax to (202) 606-5050, or by email to pracomments@oshrc.gov.

FOR FURTHER INFORMATION CONTACT: Requests for information or copies of the proposed information collection instrument should be directed to John X. Cerveny, Deputy Executive Secretary, Occupational Safety and Health Review Commission, 1120 20th Street NW., Ninth Floor, Washington, DC 20036-3457; Telephone (202) 606-5706; email address: pracomments@oshrc.gov.

SUPPLEMENTARY INFORMATION: OSHRC's Settlement Part program, codified at 29 CFR 2200.120, is designed to encourage settlements on contested citations issued by the U.S. Department of Labor's Occupational Safety and Health Administration (OSHA) and to reduce litigation costs. The program requires employers who receive job safety or health citations that include proposed penalties of $100,000 or more in total to participate in formal settlement talks presided over by an OSHRC Administrative Law Judge. If settlement efforts fail, the case would continue under OSHRC's conventional proceedings, usually before a judge other than the one who presided over the settlement proceedings.

To ensure the continued success of the program, OSHRC proposes to collect information from Settlement Part participants about their experiences with the program. The participants would be employers and Department of Labor personnel, Authorized Employee Representatives and their representatives, including attorneys, who have personally participated in cases from February 15, 2011 through February 14, 2012. The proposed information collection instrument is a written survey consisting of a series of multiple-choice questions that are intended to take a respondent no more than 30 minutes to complete. The respondents may skip any questions that they do not feel comfortable answering, and are permitted to comment further on their experiences at the end of the questionnaire.

OSHRC will submit the proposed information collection to the Office of Management and Budget for review, as required by the Paperwork Reduction Act of 1995 (44 U.S.C. 3501 et seq.). OSHRC invites comments on: (1) Whether the proposed collection of information is necessary for the proper performance of the agency's functions, including whether the information will have practical utility; (2) the accuracy of the agency's estimate of the burden of the proposed collection of information, including the validity of the methodology and assumptions used; (3) ways to enhance the quality, utility, and clarity of the information to be collected; and (4) ways to minimize the burden of the information collection on respondents, including through the use of automated collection techniques, when appropriate, and other forms of information technology. Comments submitted in response to this notice will be summarized and included in the request for OMB approval of this information collection; they also will become a matter of public record.

OMB Control Number: Not applicable, new request.

Form Number: Not applicable.

Type of Review: Regular submission (new information collection).

Title: Survey of Participants in OSHRC Settlement Part Program.

Description: Information collection required to evaluate the Review Commission's Settlement Part process.

Affected Public: Employer and Department of Labor (OSHA) personnel (settlement decision makers), Authorized Employee Representatives, and their representatives, including attorneys, who have personally participated in cases subject to Mandatory and Voluntary Settlement proceedings under 29 CFR 2200.120 from February 15, 2011 through February 14, 2012.

Estimated Number of Respondents: 300.

Estimated Time per Response: 30 minutes.

Estimated Total Reporting Burden: 150 hours.

Dated: October 26, 2011.
Debra Hall,
Acting Executive Director.

[FR Doc. 2011-28304 Filed 10-31-11; 8:45 am]

BILLING CODE 7600-01-P